NUCLEAR REGULATORY COMMISSION

[Docket No. 52-009; NRC-2025-1864]

System Energy Resources Inc.; Grand Gulf Early Site Permit; Early Site Permit Renewal Application

AGENCY: Nuclear Regulatory Commission.

ACTION: License renewal application; exemption request; acceptance for docketing; opportunity to request a hearing and to petition for leave to intervene.

SUMMARY: The U.S. Nuclear Regulatory Commission (NRC) is considering an application for the renewal of the Grand Gulf Site Early Site Permit (ESP) No. ESP-002. The renewed permit would allow a construction permit or combined license application to reference the permit for an additional 20 years specified in the current permit. The current permit for the Grand Gulf Site expires on April 5, 2027.

DATES: A request for a hearing or petition for leave to intervene must be filed by March 30, 2026.

ADDRESSES: Please refer to Docket ID NRC-2025-1864 when contacting the NRC about the availability of information regarding this document. You may obtain publicly available information related to this document using any of the following methods:

• Federal Rulemaking Website: Go to https://www.regulations.gov and search for Docket ID NRC-2025-1864. Address questions about Docket IDs in Regulations.gov to Bridget Curran; telephone: 301-415-1003; email: Bridget.Curran@nrc.gov. For technical questions, contact the individual listed in the For Further Information Contact section of this document.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. The ADAMS accession number for each document referenced (if it is available in ADAMS) is provided the first time that it is mentioned in this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Carolyn Lauron, telephone: 301-415-2736; email: Carolyn.Lauron@nrc.gov or Michelle Hayes, telephone: 301-415-8375; email: Michelle.Hayes@nrc.gov. Both are staff of the Office of Nuclear Reactor Regulation at the U.S. Nuclear Regulatory Commission, Washington, DC 20555-0001.

SUPPLEMENTARY INFORMATION:

I. Introduction

The NRC has received an application from Entergy Operations, Inc., on behalf of Systems Energy Resources, Inc. (SERI), a subsidiary of Entergy Corporation, dated September 24, 2025, (ADAMS Accession No. ML25267A217), filed pursuant to section 103 of the Atomic Energy Act of 1954, as amended (the Act), and part 52 of title 10 of the Code of Federal Regulations (10 CFR), to renew ESP-002 for an additional period of 20 years.

If the NRC renews ESP-002, NRC regulations would allow an application for a construction permit under 10 CFR part 50, “Domestic Licensing of Production and Utilization Facilities,” or an application for a combined license under 10 CFR part 52, “Early Site Permits, Standard Design Certifications, Combined Licenses for Nuclear Power Plants,” to reference the early site permit for an additional 20 years beyond the period specified in the current permit and subject to the terms and conditions in the renewed permit. The current permit for the Grand Gulf Site expires on April 5, 2027. A notice of receipt of the ESP renewal application was published in the Federal Register on December 29, 2025, (90 FR 60763).

If an application for a Construction Permit or Combined Operating License references an early site permit, the Commission shall treat as resolved those matters resolved in the proceeding on the application for renewal of the early site permit, except as provided for in paragraphs (b), (c), and (d) of 10 CFR 52.39. Among other provisions providing for early resolution of certain matters by an early site permit, pursuant to 10 CFR 52.79(b), if an application for a combined license (COL) references an early site permit, the final safety analysis report need not contain information or analyses submitted to the Commission in connection with the early site permit, provided that the COL application provides sufficient to demonstrate that the design of the facility falls within the site characteristics and design parameters specified in the early site permit.

Pursuant to 10 CFR 52.29(a), an application for renewal must contain all information necessary to bring up to date the information and data contained in the previous application. The SERI application proposes to pilot the proposed alternative ESP renewal pathway detailed in Appendix A to NEI 25-06, which is currently under NRC staff consideration. The NRC staff has not completed its evaluation of this guidance. NEI proposed an alternative renewal pathway to provide the holder of an ESP with the option to make a business decision to defer bringing up to date the general, site safety, environmental, and other required information and data contained in its previous ESP application until a later time. The SERI application, as a pilot to this proposed guidance, does not bring up to date any information about the general, site safety, environmental, and other required information and data contained in its previous ESP application. To that end, the SERI application requests an exemption from the content of renewal application requirements in 10 CFR 52.29(a).

The NRC staff has reviewed the SERI application for acceptability for docketing. The application relies, in part, on the acceptability of an associated exemption request from the requirements for the content of renewal applications in 10 CFR 52.29(a), which require that an ESP renewal application contain all information necessary to bring up to date the information and data contained in the previous ESP. The NRC staff has determined that the exemption request appears to contain sufficient information to enable the staff to begin its detailed review. Based on the NRC staff's determination that SERI's exemption request contains sufficient information for the NRC staff to begin its detailed review, the staff has determined that the application is acceptable for docketing as a request to renew the Grand Gulf Site ESP, provided that the renewed ESP would not provide finality under 10 CFR 52.39 for the general, site safety, environmental and other matters that would typically be resolved in a proceeding on the application for issuance or renewal of an ESP. Specifically, should SERI wish to reference the renewed Grand Gulf ESP in a future license application, SERI could submit all information necessary to update its ESP renewal to the NRC staff for its review in one of three ways: (1) in a request to amend the ESP to update the information; (2) in an application for a construction permit that references the ESP; or (3) in a combined license application that references the ESP. In each case, the adequacy of the updated information, which is not updated in this renewal application and is not requested to be resolved by this renewal proceeding, could be a subject of a hearing on the application. Therefore, the application to renew the Grand Gulf ESP is acceptable for docketing. The current Docket No. 52-009 for Grand Gulf Site ESP No. ESP-002 will be retained. The determination to accept the renewal application for docketing does not constitute a determination that a renewed permit should be issued and does not preclude the NRC staff from requesting additional information as the review proceeds. In addition, the determination to accept the renewal application for docketing as a pilot of the alternative ESP renewal pathway detailed in Appendix A to NEI 25-06 does not constitute an endorsement of NEI 25-06.

The NRC may grant the request to renew the permit only if the NRC makes the findings required by the Act and the Commission's rules and regulations. In accordance with 10 CFR 52.31, the NRC shall grant the renewal only if it determines that: (1) the site complies with the Act, the Commission's regulations, and orders applicable and in effect at the time the site permit was originally issued, and (2) any new requirements the Commission may wish to impose that are necessary for adequate protection to public health and safety or common defense and security, necessary for compliance with the Commission's regulations, and orders applicable and in effect at the time the site permit was originally issued, or result in a substantial increase in overall protection of the public health and safety or the common defense and security, and the direct and indirect costs of implementation of those requirements are justified in view of this increased protection.

The NRC staff will also complete an environmental review of the application and will document its findings in accordance with the National Environmental Policy Act of 1969, as amended, and the Commission's regulations in 10 CFR part 51, “Environmental Protection Regulations for Domestic Licensing and Related Regulatory Functions.” SERI did not include an environmental report in the renewal application. The NRC staff is still determining the type of environmental review that is required.

II. Opportunity To Request a Hearing and Petition for Leave To Intervene

Within 60 days after the date of publication of this notice, any person (petitioner) whose interest may be affected by this action may file a request for a hearing and petition for leave to intervene (petition) with respect to the action. Petitions shall be filed in accordance with the Commission's “Agency Rules of Practice and Procedure” in 10 CFR part 2. Interested persons should consult a current copy of 10 CFR 2.309. If a petition is filed, the presiding officer will rule on the petition and, if appropriate, a notice of a hearing will be issued.

Petitions must be filed no later than 60 days from the date of publication of this notice in accordance with the filing instructions in the “Electronic Submissions (E-Filing)” section of this document. Petitions and motions for leave to file new or amended contentions that are filed after the deadline will not be entertained absent a determination by the presiding officer that the filing demonstrates good cause by satisfying the three factors in 10 CFR 2.309(c)(1)(i) through (iii).

A State, local governmental body, Federally recognized Indian Tribe, or designated agency thereof, may submit a petition to the Commission to participate as a party under 10 CFR 2.309(h) no later than 60 days from the date of publication of this notice. Alternatively, a State, local governmental body, Federally recognized Indian Tribe, or designated agency thereof may participate as a non-party under 10 CFR 2.315(c).

For information about filing a petition and about participation by a person not a party under 10 CFR 2.315, see ADAMS Accession No. ML20340A053 (https://www.nrc.gov/docs/ML2034/ML20340A053.pdf) and the NRC's public website at https://www.nrc.gov/about-nrc/regulatory/adjudicatory/hearing.html#participate.

III. Electronic Submissions (E-Filing)

All documents filed in NRC adjudicatory proceedings including documents filed by an interested State, local governmental body, Federally recognized Indian Tribe, or designated agency thereof that request to participate under 10 CFR 2.315(c), must be filed in accordance with 10 CFR 2.302. The E-Filing process requires participants to submit and serve all adjudicatory documents over the internet, or in some cases, to mail copies on electronic storage media, unless an exemption permitting an alternative filing method, as further discussed, is granted. Detailed guidance on electronic submissions is located in the “Guidance for Electronic Submissions to the NRC” (ADAMS Accession No. ML13031A056) and on the NRC's public website at https://www.nrc.gov/site-help/e-submittals.html.

To comply with the procedural requirements of E-Filing, at least 10 days prior to the filing deadline, the participant should contact the Office of the Secretary by email at Hearing.Docket@nrc.gov, or by telephone at 301-415-1677, to (1) request a digital identification (ID) certificate, which allows the participant (or its counsel or representative) to digitally sign submissions and access the E-Filing system for any proceeding in which it is participating; and (2) advise the Secretary that the participant will be submitting a petition or other adjudicatory document (even in instances in which the participant, or its counsel or representative, already holds an NRC-issued digital ID certificate). Based upon this information, the Secretary will establish an electronic docket for the proceeding if the Secretary has not already established an electronic docket.

Information about applying for a digital ID certificate is available on the NRC's public website at https://www.nrc.gov/site-help/e-submittals/getting-started.html. After a digital ID certificate is obtained and a docket is created, the participant must submit adjudicatory documents in Portable Document Format. Guidance on submissions is available on the NRC's public website at https://www.nrc.gov/site-help/electronic-sub-ref-mat.html. A filing is considered complete at the time the document is submitted through the NRC's E-Filing system. To be timely, an electronic filing must be submitted to the E-Filing system no later than 11:59 p.m. ET on the due date. Upon receipt of a transmission, the E-Filing system time-stamps the document and sends the submitter an email confirming receipt of the document. The E-Filing system also distributes an email that provides access to the document to the NRC's Office of the General Counsel and any others who have advised the Office of the Secretary that they wish to participate in the proceeding, so that the filer need not serve the document on those participants separately. Therefore, applicants and other participants (or their counsel or representative) must apply for and receive a digital ID certificate before adjudicatory documents are filed to obtain access to the documents via the E-Filing system.

A person filing electronically using the NRC's adjudicatory E-Filing system may seek assistance by contacting the NRC's Electronic Filing Help Desk through the “Contact Us” link located on the NRC's public website at https://www.nrc.gov/site-help/e-submittals.html, by email to MSHD.Resource@nrc.gov, or by a toll-free call at 1-866-672-7640. The NRC Electronic Filing Help Desk is available between 9 a.m. and 6 p.m., ET, Monday through Friday, except Federal holidays.

Participants who believe that they have good cause for not submitting documents electronically must file an exemption request, in accordance with 10 CFR 2.302(g), with their initial paper filing stating why there is good cause for not filing electronically and requesting authorization to continue to submit documents in paper format. Such filings must be submitted in accordance with 10 CFR 2.302(b)-(d). Participants filing adjudicatory documents in this manner are responsible for serving their documents on all other participants. Participants granted an exemption under 10 CFR 2.302(g)(2) must still meet the electronic formatting requirement in 10 CFR 2.302(g)(1), unless the participant also seeks and is granted an exemption from 10 CFR 2.302(g)(1).

Documents submitted in adjudicatory proceedings will appear in the NRC's electronic hearing docket, which is publicly available at https://adams.nrc.gov/ehd, unless excluded pursuant to an order of the presiding officer. If you do not have an NRC-issued digital ID certificate as previously described, click “cancel” when the link requests certificates and you will be automatically directed to the NRC's electronic hearing dockets where you will be able to access any publicly available documents in a particular hearing docket. Participants are requested not to include personal privacy information such as social security numbers, home addresses, or personal phone numbers in their filings unless an NRC regulation or other law requires submission of such information. With respect to copyrighted works, except for limited excerpts that serve the purpose of the adjudicatory filings and would constitute a Fair Use application, participants should not include copyrighted materials in their submission.

Copies of the application to renew ESP-002 are available for public inspection at the NRC's PDR and https://www.nrc.gov/docs/ML2526/ML25267A217.pdf.

Dated: January 22, 2026.
For the Nuclear Regulatory Commission.
Michele Sampson,
Director, Division of New and Renewed Licenses, Office of Nuclear Reactor Regulation.

[FR Doc. 2026-01470 Filed 1-26-26; 8:45 am]

BILLING CODE 7590-01-P